DEPARTMENT OF LABOR

Employment and Training Administration

[TA-W-81,815]

Hartford Financial Services Group, Inc., Commercial/Actuarial/ Information Delivery Services (IDS)/Corporate & Financial Reporting Group, Hartford, CT; Notice of Negative Determination on Reconsideration

On December 4, 2012, the Department of Labor issued an Affirmative Determination Regarding Application for Reconsideration for the workers and former workers of Hartford Financial Services Group, Inc., Commercial/Actuarial/Information Delivery Services (IDS)/Corporate & Financial Reporting group, Hartford, Connecticut (The Hartford-IDS Group). The Department's Notice of determination was published in the Federal Register on January 4, 2013 (78 FR 773).

The Hartford-IDS Group is engaged in activities related to the supply of financial services. The Hartford-IDS Group develops databases for creating reports for corporate, regulatory, and financial services. The Hartford-IDS Group is separately identifiable from other groups within Hartford Financial Services Group, Inc.

Workers within the Hartford-IDS Group provide business and information technology applications for corporate, regulatory, and financial reporting.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial investigation resulted in a negative determination based on the findings that, with respect to Section 222(a) and Section 222(b) of the Trade Act of 1974, as amended (the Act), Criterion (1) has not been met because a significant number or proportion of the workers in such workers' firm have not become totally or partially separated, nor are they threatened to become totally or partially separated.

The request for reconsideration states that “The Hartford Financial Services employs nearly 10,000 employees in Connecticut. The majority work full-time hours and are employed at the 690 Asylum Ave, Hartford, Connecticut site, the location of the petition in question * * * According to a former employee * * * his Unit was an independent unit isolated from others, but the information prepared by his unit, the database, was used by many units within The Hartford. His particular Unit encompassed roughly 75 employees. While only a few workers have been laid off to date in the specific unit, the database was used by * * * units that have been TAA-certified.”

Information obtained during the reconsideration investigation confirmed that with respect to Section 222(a) and Section 222(b) of the Act, Criterion (1) has not been met because a significant number or proportion of the workers in such workers' firm have not become totally or partially separated, nor are they threatened to become totally or partially separated.

Significant number or proportion of the workers means that: (a) In most cases the total or partial separations, or both, in a firm or appropriate subdivision thereof, are the equivalent to a total unemployment of five percent (5 percent) of the workers or 50 workers, whichever is less; or (b) At least three workers in a firm (or appropriate subdivision thereof) with a work force of fewer than 50 workers would ordinarily have to be affected (29 CFR 90.2).

A careful review of previously-submitted information and information obtained during the reconsideration investigation revealed that the worker group consisting of Hartford-IDS Group did not meet this requirement.

The workers' firm has not been publically identified by name by the International Trade Commission as a member of a domestic industry in an investigation resulting in an affirmative finding of serious injury, market disruption, or material injury, or threat thereof.

Therefore, after careful review of the request for reconsideration, the Department determines that 29 CFR 90.18(c) has not been met.

Conclusion

After careful review, I determine that the requirements of Section 222 of the Act, 19 U.S.C. 2272, have not been met and, therefore, deny the petition for group eligibility of Hartford Financial Services Group, Inc., Commercial/Actuarial/Information Delivery Services (IDS)/Corporate & Financial Reporting group, Hartford, Connecticut, to apply for adjustment assistance, in accordance with Section 223 of the Act, 19 U.S.C. 2273.

Signed in Washington, DC, on this 11th day of January 2013.
Del Min Amy Chen,
Certifying Officer, Office of Trade Adjustment Assistance.

[FR Doc. 2013-02544 Filed 2-5-13; 8:45 am]

BILLING CODE 4510-FN-P